FEDERAL MARITIME COMMISSION

Ocean Transportation Intermediary License Reissuances

The Commission gives notice that the following Ocean Transportation Intermediary licenses have been reissued pursuant to section 40901 of the Shipping Act of 1984 (46 U.S.C. 40101).

License No.: 016201N.

Name: Delta Line International, Inc.

Address: 7970 NW 56th Street, Miami, FL 33166.

Date Reissued: June 14, 2012.

License No.: 017267NF.

Name: Just In Time Services, Inc.

Address: 11380 NW 34th Street, Suite 100, Doral, FL 33178.

Date Reissued: June 21, 2012.

Vern W. Hill,
Director, Bureau of Certification and Licensing.

[FR Doc. 2012-18178 Filed 7-24-12; 8:45 am]

BILLING CODE 6730-01-P